DEPARTMENT OF TRANSPORTATION

Federal Aviation Administration

[Docket No.: FAA-2024-2463; Summary Notice No. 2025-09]

Petition for Exemption; Summary of Petition Received; Drone Power1 LLC

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before April 8, 2025.

ADDRESSES: Send comments identified by docket number FAA-2024-2463 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington DC 20590-0001.

• Hand Delivery or Courier: Take comments to Docket Operations in Room W12-140 of the West Building Ground Floor at 1200 New Jersey Avenue SE, Washington DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington DC 20590-0001, between 9 a.m. and 5 p.m., Monday through Friday, except Federal holidays.

FOR FURTHER INFORMATION CONTACT: Jake Troutman at (202) 267-2928, Office of Rulemaking, Federal Aviation Administration, 800 Independence Avenue SW, Washington DC 20591.

This notice is published pursuant to 14 CFR 11.85.

Issued in Washington DC.
Dan A. Ngo,
Manager, Part 11 Petitions Branch, Office of Rulemaking.

Petition for Exemption

Docket No.: FAA-2024-2463.

Petitioner: DronePower1 LLC.

Section(s) of 14 CFR Affected: 49 U.S.C. 44807, 14 CFR part 91, subpart E, §§ 61.3(a)(1)(i), 91.7(a), 91.119(c), 91.121, 91.151(b), 91.405(a), 91.407(a)(1), 91.409(a)(1), 91.409(a)(2), 91.417(a), 91.417(b).

Description of Relief Sought: DronePower1 LLC, a startup drone operations service provider founded in Wyoming, seeks an exemption to operate the Joyance JTC30 Cleaning Drone, an unmanned aircraft system (UAS) weighing 55 pounds (lbs.) or greater, to provide commercial solar panel cleaning-related services for commercial and utility sized solar fields. Operations would be conducted in secure solar fields where the solar panels will be ground mounted and not placed on structures. The aircraft's maximum takeoff weight would not exceed 150 lbs. Operations would be conducted within visual line of site (VLOS) of the pilot in command (PIC) at all times. Operations would not be conducted at night.

[FR Doc. 2025-04549 Filed 3-18-25; 8:45 am]

BILLING CODE 4910-13-P